DEPARTMENT OF THE INTERIOR

National Park Service

Notice of Availability of a Draft Environmental Impact Statement for the General Management Plan, Abraham Lincoln Birthplace National Historic Site

ACTION: Notice.

SUMMARY: The National Park Service (NPS) announces the availability of the Draft Environmental Impact Statement (DEIS) for the General Management Plan (GMP) for Abraham Lincoln Birthplace National Historic Site, Kentucky. This document will be available for public review and comment pursuant to Section 102(2)(C) of the National Environmental Policy Act of 1969 and NPS policy in Director's Order Number 2 (Park Planning) and Director's Order Number 12 (Conservation Planning, Environmental Impact Analysis, and Decision-making).

The document provides a framework for management, use, and development options for the historic site by the NPS for the next 15 to 20 years. The document describes four management alternatives for consideration, including a no-action alternative, and analyzes the environmental impacts of those alternatives for the Birthplace unit and the Boyhood Home unit. The Birthplace unit of the historic site is located in the city of Hodgenville, Kentucky and the Boyhood Home unit is located 10 miles northeast of the Birthplace unit.

DATES: There will be a 60-day comment period beginning with the Environmental Protection Agency's publication of its Notice of Availability in the Federal Register.

ADDRESSES: Copies of the DEIS and GMP are available from the Superintendent, Abraham Lincoln Birthplace National Historic Site, 2995 Lincoln Farm Road, Hodgenville, Kentucky, 42748-9707, telephone: 270-358-3137. An electronic copy of the DEIS and GMP is available on the Internet at http://parkplanning.nps.gov/.

FOR FURTHER INFORMATION CONTACT: Contact the Superintendent, Abraham Lincoln National Historic Site, at the address and telephone number shown above, Matthew Safford at 303-969-2898, or Amy Wirsching at 404-562-3124, extension 607.

SUPPLEMENTARY INFORMATION: If you wish to comment on the DEIS, you may submit your comments by any one of several methods. You may mail comments to the Superintendent at the address shown above. You may also submit a comment via the Internet at http://parkplanning.nps.gov. Finally, you may present your comments in person at the public meetings to be held during the public review period in Hodgenville and New Haven, Kentucky.

It is the practice of the NPS to make all comments, including names and addresses of respondents who provide that information, available for public review following the conclusion of the NEPA process. Individuals may request that the NPS withhold their name and/or address from public disclosure. If you wish to do this, you must state this prominently at the beginning of your comment. Commentators using the Web site can make such a request by checking the box “keep my contact information private.” NPS will honor such requests to the extent allowable by law, but you should be aware that NPS may still be required to disclose your name and address pursuant to the Freedom of Information Act.

The responsible official for the DEIS is Patricia A. Hooks, Regional Director, Southeast Region, National Park Service, 100 Alabama Street, SW., 1924 Building, Atlanta, Georgia 30303.

Dated: March 28, 2006.
Patricia A. Hooks,
Regional Director, Southeast Region.

[FR Doc. E6-5586 Filed 4-13-06; 8:45 am]

BILLING CODE 4310-70-P